DEPARTMENT OF COMMERCE

National Telecommunications and Information Administration

Commerce Spectrum Management Advisory Committee, Call for Applications

AGENCY: National Telecommunications and Information Administration, U.S. Department of Commerce.

ACTION: Notice and Call for Applications to Serve on Advisory Committee.

SUMMARY: The National Telecommunications and Information Administration (NTIA) is seeking applications from persons interested in serving on the Department of Commerce Spectrum Management Advisory Committee (CSMAC) for new two-year terms. The CSMAC provides advice to the Assistant Secretary for Communications and Information and NTIA Administrator on spectrum policy matters.

DATES: Nominations must be postmarked or electronically transmitted on or before January 10, 2011.

ADDRESSES: Persons may submit applications, with the information specified below, to Joe Gattuso, Designated Federal Officer, by e-mail to spectrumadvisory@ntia.doc.gov; by U.S. mail or commercial delivery service to Office of Policy Analysis and Development, National Telecommunications and Information Administration, 1401 Constitution Avenue, NW., Room 4725, Washington, DC 20230; or by facsimile transmission to (202) 482-6173.

FOR FURTHER INFORMATION CONTACT: Joe Gattuso at (202) 482-0977 or jgattuso@ntia.doc.gov.

SUPPLEMENTARY INFORMATION: The CSMAC was first chartered in 2005 under the Federal Advisory Committee Act (FACA), 5 U.S.C. App. 2, to carry out the functions of the National Telecommunications and Information Administration Act, 47 U.S.C. 904(b). The Department of Commerce last renewed the CSMAC's charter on April 6, 2009. The CSMAC advises the Assistant Secretary of Commerce for Communications and Information on a broad range of issues regarding spectrum policy. In particular, the current charter provides that the CSMAC will provide advice and recommendations on needed reforms to domestic spectrum policies and management in order to: License radio frequencies in a way that maximizes their public benefit; keep wireless networks as open to innovation as possible; and make wireless services available to all Americans. The CSMAC functions solely as an advisory body in compliance with the Federal Advisory Committee Act (FACA). Additional information about the CSMAC and its activities may be found at http://www.ntia.doc.gov/advisory/spectrum.

Under the terms of the charter, the Secretary appoints members of the CSMAC based on their expertise in radio spectrum policy and not to represent any organization or interest. The members serve on the CSMAC in the capacity of Special Government Employee. Members may not receive compensation or reimbursement for travel or for per diem expenses.

The Secretary of Commerce appoints members for two-year terms. There are currently 25 members, the maximum permitted by the charter. NTIA seeks applicants for vacancies that will occur when the appointments of 18 members expire on January 13, 2011.

NTIA expects that, starting in 2011, the CSMAC's work will focus on how best to execute the mandate of the President's spectrum initiative, and specifically the “Plan and Timetable to Make Available 500 Megahertz of Spectrum for Wireless Broadband.” (Available at http://www.ntia.doc.gov/reports/2010/TenYearPlan_11152010.pdf; see also fact sheet at http://www.ntia.doc.gov/press/2010/SpectrumReports_11152010.html.)

Thus, NTIA seeks in particular applicants with strong technical and engineering knowledge and experience, familiarity with commercial or private wireless technologies and associated business plans, or expertise with specific applications of wireless technologies, such as Smart Grid or health information technologies. The Secretary will appoint members such that the CSMAC is fairly balanced in terms of the points of view represented by the members. To achieve this diversity of viewpoints, the Secretary appoints members from industry, academia, not-for-profit organizations, public advocacy, and civil society with professional or personal qualifications or experience that will both contribute to the CSMAC's work and achieve balance. The Secretary will consider factors including, but not limited to, educational background, past work or academic accomplishments, and the industry sector in which a member is currently or previously employed. All appointments are made without discrimination on the basis of age, ethnicity, gender, sexual orientation, disability, or cultural, religious, or socioeconomic status. Members may not, however, be federally registered lobbyists.

Persons may submit applications, with the information specified below, to Joe Gattuso, Designated Federal Officer, by e-mail to spectrumadvisory@ntia.doc.gov; by U.S. mail or commercial delivery service to Office of Policy Analysis and Development, National Telecommunications and Information Administration, 1401 Constitution Avenue, NW., Room 4725, Washington, DC 20230; or by facsimile transmission to (202) 482-6173.

All parties wishing to be considered should submit their full name, address, telephone number and e-mail address and a summary of their qualifications that identifies with specificity how their education, training, experience, or other factors would support the CSMAC's work and how their participation would provide balance to the CSMAC. They should also include a detailed resume or curriculum vitae (CV).

Dated: December 1, 2010.
Kathy D. Smith,
Chief Counsel, National Telecommunications and Information Administration.

[FR Doc. 2010-30564 Filed 12-6-10; 8:45 am]

BILLING CODE 3510-60-P